DEPARTMENT OF TRANSPORTATION

National Highway Traffic Safety Administration

49 CFR Part 571

[Docket No. NHTSA-2004-17980; Notice 2]

RIN 2127-AI38

Federal Motor Vehicle Safety Standards; Seat Belt Assemblies

AGENCY: National Highway Traffic Safety Administration (NHTSA), Department of Transportation (DOT).

ACTION: Extension of comment period.

SUMMARY: NHTSA received a letter asking us to extend the comment period for the Notice of Proposed Rulemaking (NPRM) to amend the Federal motor vehicle safety standard (FMVSS) for seat belt assemblies. The NPRM proposed to redefine the requirements and establish a new test methodology for emergency-locking retractors. If adopted, the amendments would establish a new acceleration corridor, add a figure illustrating the acceleration corridor, provide tolerance on angle measurements, and employ the same instrumentation specifications currently found in other FMVSSs containing crash tests. To provide interested persons additional time to prepare comments, we are extending the end of the comment period from August 2, 2004, to October 1, 2004. This 60-day extension will allow seat belt manufacturers the opportunity to conduct additional testing in support of the NPRM and provide more meaningful comments.

DATES: Comments must be received by October 1, 2004.

ADDRESSES: You may submit comments (identified by the docket number set forth above) by any of the following methods:

• Federal eRulemaking Portal: http://www.regulations.gov. Follow the instructions for submitting comments.

• Web Site: http://dms.dot.gov. Follow the instructions for submitting comments on the DOT electronic docket site. Please note, if you are submitting petitions electronically as a PDF (Adobe) file, we ask that the documents submitted be scanned using Optical Character Recognition (OCR) process, thus allowing the agency to search and copy certain portions of your submissions.¹

¹ Optical character recognition (OCR) is the process of converting an image of text, such as a scanned paper document or electronic fax file, into computer-editable text.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC between 9 a.m. to 5 p.m., Monday through Friday, except Federal holidays.

Instructions: All submissions must include the agency name and docket number or Regulatory Identification Number (RIN) for this rulemaking. All comments received will be posted without change to http://dms.dot.gov, including any personal information provided. For detailed instructions on submitting comments and additional information on the rulemaking process, see the Privacy Act heading of the Supplementary Information section of this document.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: The following persons at the National Highway Traffic Safety Administration, 400 Seventh Street, SW., Washington, DC 20590 can be contacted.

For non-legal issues: William Fan, Office of Crashworthiness Standards, NVS-112. Telephone: (202) 366-4922. Fax: (202) 493-2739.

For legal issues: Christopher Calamita, Office of Chief Counsel, NCC-112. Telephone: (202) 366-2992. Fax: (202) 366-3820.

SUPPLEMENTARY INFORMATION: On June 3, 2004, NHTSA published in the Federal Register (69 FR 31330) a NPRM to amend FMVSS No. 209, “Seat belt assemblies,” to redefine the requirements and establish a new test methodology for emergency-locking retractors. This rulemaking was initiated in response to a petition for rulemaking submitted by the Automotive Occupant Restraints Council (AORC), a trade association representing manufacturers of occupant restraints. The AORC petition requested that NHTSA amend the performance requirements and test procedures for emergency-locking retractors to include an acceleration corridor. Additionally, the AORC requested that NHTSA apply the same instrumentation specifications to emergency-locking retractors, as used in other FMVSS dynamic performance requirements.

In developing the NPRM, the agency examined vehicle crash tests, hard braking tests, FMVSS No. 209 compliance test pulses, and data presented by the AORC in its petition for rulemaking. Based on our analysis of available data, NHTSA proposed amendments to FMVSS No. 209 that would establish a new acceleration corridor, add a figure illustrating the acceleration corridor, provide tolerance on angle measurements, and employ the same instrumentation specifications currently found in other FMVSSs containing crash tests. In general, the NPRM expanded upon, and modified, the performance specifications recommended by the AORC in their original petition. The agency did so to allow for a wider range of acceleration pulses, including those historically used for ensuring a minimum level of safety performance.

On July 14, 2004, the AORC requested a 60-day extension of the comment period to October 1, 2004. The AORC stated that the basis for the extension is to gather additional technical information. The AORC stated its belief that the additional time requested for comments would allow for sufficient testing and assessment. Specifically, the AORC made the following statements about gathering additional information:

• Due to significant changes of the proposed emergency-locking retractor corridor, the restraint suppliers need to test and analyze the impact of these changes to the totality of the proposed rulemaking, as well as the ability of products to comply with pulses within the corridor.

• The addition of the “nuisance locking” 0.3 g requirement, which was not in the AORC petition, needs further study. This evaluation may consider the applicability of a corridor, limits, and the ability of retractors to meet the proposed requirements.

• The addition of the “tolerance for angles” of plus or minus 3 degrees, which was not in the AORC petition, needs to be reviewed for applicability to this standard in test lab practices and procedures.

• The proposal to use the Society of Automotive Engineers J211-1 filtering for webbing payout needs to be reviewed with the equipment manufacturers and assessed in terms of product compliance.

In conclusion, the AORC stated that the additional 60-days would allow for a more thorough evaluation and response to the proposed rulemaking.

After considering the AORC's request, we have decided that it would be in the public's interest to extend the comment period to obtain as much data as possible. The AORC may provide additional tests and analyses to better assess the merits of the proposal, and the potential for product compliance with the technical performance requirements specified in the NPRM. There is also a public interest in having the views of the public be as informed as possible. Since the proposal seeks to clarify the requirements and test procedures applicable to emergency-locking retractors, we stated in the NPRM that we do not anticipate any substantial changes in their performance. Consequently, we believe the 60-day extension of the comment period will not adversely affect safety. Furthermore, since the AORC initiated both the original petition and the 60-day extension request, our decision to extend the comment period is supported by the petitioner in this case. Therefore, we believe that providing additional time for the AORC to collect and analyze information will result in more helpful comments.

Privacy Act: Anyone is able to search the electronic form of all submissions received into any of our dockets by the name of the individual submitting the comment or petition (or signing the comment or petition, if submitted on behalf of an association, business, labor union, etc.). You may review DOT's complete Privacy Act Statement in the Federal Register published on April 11, 2000 (volume 65, number 70; pages 19477-78), or you may visit http://dms.dot.gov.

Authority: 49 U.S.C. 322, 30111, 30115, 30117, and 30166; delegation of authority at 49 CFR 1.50.

Issued: July 29, 2004.
Stephen R. Kratzke,
Associate Administrator for Rulemaking.

[FR Doc. 04-17702 Filed 7-30-04; 8:58 am]

BILLING CODE 4910-59-P